DEPARTMENT OF TRANSPORTATION

[Docket No. DOT-OST-2022-0082]

Notice of Funding Opportunity To Establish Cooperative Agreements With Technical Assistance Providers for the Fiscal Year 2022 Thriving Communities Program

AGENCY: Office of the Secretary of Transportation, U.S. Department of Transportation (DOT).

ACTION: Notice of Funding Opportunity (NOFO), Assistance Listing #20.942 (tentative).

SUMMARY: The purpose of this notice is to publish DOT's application submission requirements and application review procedures to select capacity builders to provide technical assistance, planning and capacity building through cooperative agreements with DOT, as authorized by the Consolidated Appropriations Act, 2022.

DATES: The deadline for application submission is 11:59 p.m. Eastern Time on November 22, 2022. Proposals or applications received after the above deadlines will not be reviewed or considered. See section E of this NOFO regarding DOT's review process and section G of the NOFO for DOT's contact information.

ADDRESSES: Applications must be submitted through https://www.grants.gov. Opportunity number DOT-TCP-FY22-01 (expected live date is the week of October 17, 2022).

FOR FURTHER INFORMATION CONTACT: Alexander Bond at 202-366-2414. Office hours are from 8 a.m. to 5 p.m. EDT, Monday through Friday, except for Federal holidays. Ongoing updates, webinar notices, FAQs: https://www.transportation.gov/thriving-communities.

Email: ThrivingCommunities@dot.gov.

A Telecommunications Device for the Deaf (TDD) is available (202) 366-3993.

SUPPLEMENTARY INFORMATION:

Table of Contents

A. Program Description

B. Federal Award Information

C. Eligibility Information

D. Application and Submission Information

E. Application Review Information

F. Federal Award Administration

G. Federal Awarding Agency Contacts

H. Other Supporting Information

Appendix A. Full Application Checklist

A. Program Description

1. Overview

The U.S. Department of Transportation's (DOT) Thriving Communities Program (TCP) was established by the Consolidated Appropriations Act, 2022 (Pub. L. 117-103, Division L, Title I). The goal of the TCP is to ensure disadvantaged communities adversely and/or disproportionately affected by environmental, climate, and human health policy outcomes have the technical tools and organizational capacity to comprehensively plan for and deliver quality infrastructure projects and community development projects that enable their communities and neighborhoods to thrive. The TCP will provide technical assistance, planning and capacity building support to advance transportation and community revitalization activities that benefit disadvantaged populations and communities. The TCP will also support and build local capacity to improve project acceleration, access to and management of federal funding, and deployment of local hiring, workforce development and inclusive community engagement practices (including persons with disabilities and limited English proficient individuals.

DOT's FY2022-2026 Strategic Plan (https://www.transportation.gov/dot-strategic-plan) and its Equity Action Plan (https://www.transportation.gov/priorities/equity/equity-action-plan) articulate the Department's commitment to equity as a transportation cornerstone. The TCP embodies this commitment with a focus on ensuring that all communities, regardless of their size or current capacity, have the necessary tools to access DOT funding and that equity is infused into decision making and planning, procurement and hiring processes. TCP allows DOT to prioritize support to rural, Tribal, and other disadvantaged communities, many of whom have been bypassed or harmed by past transportation investments. TCP is a Justice40 covered program provided to ensure that disadvantaged communities can successfully identify, develop, fund, and deliver infrastructure projects informed by meaningful public involvement and generating multiple economic, climate, health, equity, and other community benefits. Information on the Justice40 policy and other programs that that can support equity goals can be viewed at: https://www.transportation.gov/equity-Justice40.

This Notice of Funding Opportunity (NOFO) seeks to establish a national technical assistance program that will drive innovation, advance equity outcomes, and build a national pipeline of community-driven infrastructure projects. In its first year, TCP will provide deep-dive technical assistance to at least 30 communities. This will be done through cooperative agreements with eligible parties to help those communities with the highest degree of burden and capacity constraints prepare, develop, and deliver transformative infrastructure projects.

Eligible TCP applicants should propose strategies to provide deep-dive technical assistance, planning and capacity building and build a robust Community of Practice across regions involving diverse transportation and community stakeholders. Specifically, this includes facilitating the scoping, planning, development and delivery of transportation and community revitalization activities supported by DOT under titles 23, 46, and 49, United States Code, that increase mobility, reduce pollution from transportation sources, expand affordable transportation options, facilitate efficient land use, preserve or expand jobs, improve housing conditions, enhance connections to health care, education, and food security, or improve health outcomes.

The U.S. Department of Housing and Urban Development (HUD) allocated $5 million from the FY2022 appropriations act to coordinate with DOT's TCP. HUD will provide funding to technical assistance providers and capacity builders to help jurisdictions consider housing and community development needs as part of transportation infrastructure plans (for example, identifying land that is near planned transportation projects and suitable for housing development). HUD's technical assistance will enable more communities to thoughtfully plan and boost location-efficient housing supply. Applicants interested in HUD's Thriving Communities Technical Assistance Notice of Funding Opportunity should visit https://www.huduser.gov/portal/nofos/thriving-communities.html.

For FY2022 funding, the TCP presents two separate response opportunities:

(1) This NOFO is for eligible applicants to provide technical assistance, planning, or capacity building services to help disadvantaged communities, and

(2) A separate call for Letters of Interest (LOI) from recipients eligible to receive TCP support can be viewed at https://www.transportation.gov/grants/thriving-communities.

Recipients of the technical assistance provided through TCP are state, local, or Tribal governments, United States territories, metropolitan planning organizations, regional transportation planning organizations, transit agencies, or other political subdivisions of state or local governments. DOT is establishing as a prerequisite to eligibility, that these governmental entities form coalitions, referred to as Community Partnerships (as described in the LOI), with organizations from within and outside the government that may also serve as local capacity building and technical assistance implementation partners and generate deeper community engagement particularly from historically under-represented populations and environmental justice stakeholders. The composition of these Community Partnerships will be at the discretion of each technical assistance recipient and identified in their LOI, but could include other government entities, nonprofits, non-governmental and community-based organizations, labor unions, advocacy groups, chambers of commerce and major employers or anchor institutions, and philanthropic organizations.

The TCP is one of several technical assistance programs administered through DOT's Build America Bureau's (Bureau). Participation in technical assistance programs is voluntary and does not obligate the awardee or recipients to apply for DOT grants or credit programs in the future, nor does participation offer preferential treatment to future applications or a guarantee of Federal funding.

The TCP will coordinate and leverage other Federal place-based technical assistance and capacity building initiatives that align with TCP goals to provide comprehensive support to selected recipient communities. This may include, but is not limited to USDA's Rural Partners Network, the Interagency Working Group on Coal and Power Plant Communities and Economic Revitalization, the Economic Development Administration's Economic Recovery Corps, and the Environmental Protection Agency's Environmental Justice Thriving Communities Technical Assistance Centers.

Please note that key definitions for terms relevant to TCP are provided in section H.1 of this NOFO.

2. Thriving Communities Program Structure

a. Capacity Builder Design Strategies

DOT seeks applications from technical assistance, planning, and capacity building providers—henceforth referred to as Capacity Builders (see section C.1 of this NOFO for more information)—to provide a spectrum of support to selected recipients. This support includes:

1. Delivering individualized deep-dive technical assistance, planning, and capacity building to selected communities across pre-development and grant application activities through project development, project funding and financing, and project delivery.

2. Establishing and managing a national Community of Practice to advance policies, practices and projects informed by meaningful public involvement and partnership.

3. Providing targeted technical support as part of the national TCP capacity building network.

TCP applicants should propose how they will build out and deliver a two-year technical assistance, planning, and capacity building program that responds to these three areas of support.

Individualized Deep Dive Support

The primary focus of support through TCP is assisting individual communities—recipients include government agencies and their community partner organizations—to successfully advance a program of projects identified through meaningful public involvement that deliver a broad set of transportation, climate, equity, housing, economic, and other community benefits. Each Capacity Building team will provide individualized deep-dive support to 10-15 communities selected by DOT. DOT will assign recipient communities to a specific Capacity Builder prior to finalizing cooperative agreements. Note that there may be more than one Capacity Builder per Community of Practice; and that the overall anticipated number of communities supported through TCP will be at least thirty.

DOT invites applicants to propose how they could provide deep dive support to additional communities, beyond the 10-15 selected by DOT, within the budget provided or through leveraging other funding or associated technical assistance efforts that the applicant or its team members may also be supporting. Individualized deep-dive support refers to the provision of services to implement the specific technical assistance activities and capacity building goals identified in these work plans.

Selected Capacity Builders are expected to develop detailed work plans and budgets describing their scope of work and how the goals of the TCP will be met. Capacity Builders will provide short-term technical assistance necessary to recipient communities to develop integrated plans, advance projects, conduct pre-development activities and to build longer-term organizational and community capacity.

For instance, this could include but is not limited to:

• Identifying and responding to funding opportunities including Federal discretionary grant applications

• Conducting project scoping, planning, and pre-engineering studies, market, and other technical analysis

• Supplementing local staffing and workforce development capacity

• Establishing leadership, fellowship, pre-apprenticeship, and apprenticeships programs

• Developing systems or structures that improve compliance with Federal grant management, including but not limited to Title VI of the Civil Rights Act, the Americans with Disabilities Act, Section 504 of the Rehabilitation Act, and procurement requirements

• Supporting comprehensive community planning that better coordinate transportation with other land use, housing, and infrastructure development.

• Implementing innovative public engagement strategies, particularly to involve traditionally underrepresented voices in the project identification, planning, and prioritization process.

• Sub-granting to local technical assistance and capacity building partners who bring local expertise and capacity

• Evaluating and establishing emerging transportation and planning technologies, data systems and software

Capacity Builders will develop processes to engage with the selected recipients and their Community Partnerships to co-design a tailored scope of work and set of equitable development outcomes to be achieved over a two-year period of performance. DOT expects that a portion of funding provided to Capacity Builders will be budgeted for direct support to TCP recipients and members of their Community Partnerships.

DOT staff from its regional, division, and headquarters offices can serve as Federal liaisons who help to inform communities of additional existing technical assistance resources provided by DOT or other Federal agencies that can assist in project pre-development, public outreach, planning, financing, and project delivery. The online DOT Navigator (available at https://www.transportation.gov/dot-navigator) provides information on existing DOT-supported technical assistance resources that may be a useful reference for Capacity Builders.

HUD's Thriving Communities technical assistance will be available to local governments from TCP communities as well as to other local governmental entities that meet HUD's eligibility requirements. DOT will coordinate linkages between capacity builders, TCP communities and HUD, as necessary.

TCP Community of Practice Support

To build collective and sustained learning, Capacity Builders will support a TCP Community of Practice that facilitates collaboration across and within communities and that builds local capacity to advance a pipeline of community-driven projects that generate transportation, economic and community benefits. This may include face-to-face meetings as well as web-based collaborative environments to communicate, connect and conduct community activities that collectively facilitate long term capacity building and systems change. Applicants should propose methods and tasks that will be undertaken to create and support a Community of Practice among the communities they are identified to support; and within the individual communities to build capacity between the lead applicant and community partners.

TCP seeks to amplify the program's impact and generate noteworthy practices that can be scaled and replicated in other regions. Within selected deep-dive communities, Community of Practice provide an opportunity to deepen cross-sector collaboration between the lead recipient of technical assistance (i.e., eligible government entities), their identified community partners, and other community stakeholders that have not historically been engaged in infrastructure, economic and community development planning and decision making; or those who bear the heaviest environmental, health, mobility, housing, economic and/or social costs of infrastructure projects.

Targeted Technical Support

DOT may assign Capacity Builders to provide targeted technical and limited support to TCP communities and/or other DOT and federal technical assistance recipients, as needed, to assist disadvantaged communities and government agencies to advance projects and processes aligned with DOT's Strategic Plan and Equity Action Plan priorities for equity, workforce development, labor and hiring preferences, small business development and procurement, climate, safety, technology transformation.

b. Communities of Practice Typology

DOT has identified three different Communities of Practice (“cohorts”) to organize communities and their technical assistance, planning, and capacity building needs in relation to shared demographics, transportation challenges, and programmatic opportunities. The three cohorts are:

• Main Streets—Focused on Tribal and rural communities and the interconnected transportation, community, housing, and economic development issues they face.

• Complete Neighborhoods—Focused on urban and suburban communities located within Metropolitan Planning Organization (MPO) planning areas working to better coordinate transportation with land use, housing, and economic development.

• Networked Communities—Focused on those communities located near ports, airports, freight, and rail facilities to address mobility, access, housing, environmental justice, and economic issues including leveraging their proximity to these facilities for wealth-building and economic development opportunities.

Each cohort is described below with examples of possible transportation topic areas. DOT believes that communities best know the specific challenges and opportunities they face. Capacity Builders will utilize a community-centered approach to work with selected recipient communities to refine the areas of focus for specific places and for the overall Community of Practice.

Main Streets

The Thriving Communities Main Streets cohort consists of eligible rural recipients from Tribal governments, United States territories, rural communities, and small towns, including communities that are not part of an MPO. Less dense populations, longer travel distances, older and changing demographics, declining, or transitioning economies, and smaller government budgets and staff are just a few of the shared challenges faced by this cohort, which also impact the ability of government to deploy innovative workforce development, climate resilience, equity, and technology solutions. Illustrative of the possible transportation issues that this cohort may address are road network improvement and safety projects; improving infrastructure condition alongside strategies to support economic and community revitalization with investments in high-speed internet deployment, water and sewage lines, and electric vehicle charging stations; rural transit, micro mobility and ADA-accessible transportation alternatives including multimodal trails; context sensitive design solutions that will improve mobility and access particularly for disadvantaged populations such as older adults, people with disabilities, youth, and those without access to a personal automobile; transportation worker recruitment and training strategies; and place-making strategies to leverage local cultural, natural and community assets. State DOTs are a critical partner, facility owner, and funder in these communities.

Capacity Builders seeking to support this cohort must demonstrate their expertise and familiarity in working with rural, United States territories, and/or Tribal communities, such as through members of their team that have specific cultural and community ties or proven experience working on federal Tribal and rural transportation, community, housing, and economic development programs.

Complete Neighborhoods

The Complete Neighborhoods cohort consists of eligible urban and suburban local governments, transit agencies, or other political subdivisions that are included in a metropolitan planning organization's (MPO) planning area. This cohort is focused on comprehensive strategies to enhance community connectivity, improve coordination of land use, housing, economic development, and transportation, and to accelerate innovation specifically for disadvantaged communities or neighborhoods. Areas of persistent poverty and declining economies or property values create challenges for some, while other communities in this cohort may be experiencing market-induced or climate-induced gentrification and displacement. Technical assistance and capacity building can advance equity by addressing the inequities and systemic barriers created by decades of discrimination, segregation, urban renewal, and suburban sprawl impacting these communities.

Illustrative of the possible transportation issues that this cohort may address are increasing accessibility to affordable and reliable multi-modal transportation options to reach regional jobs and community facilities such as health care centers, libraries, public schools and grocery stores; deploying transit-oriented and walkable development policies; reducing greenhouse gas emissions and improve air quality; and improving safety for all users of the transportation system including bicyclists, pedestrians and people of all ages and abilities. This cohort will look to leverage planning, project development and transportation projects that serve community and economic development goals and promote revitalization including strategies such as street level retail and community space, urban place-making, and local and economic hiring preferences to support community wealth building in economically disadvantaged communities within the region. MPOs and other types of regional planning bodies are important infrastructure implementation partners, especially to coordinate transportation with housing and economic development planning and advance projects benefitting disadvantaged communities.

Networked Communities

The Networked Communities cohort consists of eligible recipients from urban, suburban, and rural communities that are located near major transportation facilities such as ports, airports, and freight or passenger rail facilities. These communities may face local environmental justice and mobility access issues exacerbated by their proximity to regionally or nationally significant transportation facilities and/or projects. Yet these types of facilities also provide significant workforce, labor and economic development potential for adjacent communities given the context of each hub.

Illustrative of the possible transportation issues that this cohort may face are community access and connectivity; roadway safety and design improvements including of major arterials and service roads; strategies to reduce air and noise pollution including decarbonization and transitioning to clean technologies; or preparing for new or extended freight or passenger rail service. Private sector partners may play a critical role as utility and facility owners, rail operators, port and airport authorities, whose interests are generally broader than those of the surrounding community. The technical assistance priorities for this cohort can include advancing equity by addressing environmental injustice, mobility, pollution, public health, workforce and economic development, and land use planning through meaningful public involvement for communities, particularly those that are lower income and/or have a higher proportion of people of color residing near these facilities.

B. Federal Award Information

Under the Consolidated Appropriations Act, 2022 (Pub. L. 117-103), Congress provided DOT with $25,000,000 for the Thriving Communities Program, to be obligated by September 30, 2024. Of the funds provided, DOT anticipates awarding at least three separate cooperative agreements to Capacity Builders who demonstrate the ability to develop and provide technical assistance, planning, and capacity building tools to all communities within the specific Community of Practice they are assigned to support. DOT may select a Capacity Builder to specifically work with Tribal governments given unique opportunities to advance Tribal sovereignty, specific requirements associated with the Bureau of Indian Affairs, and to support those Tribal nations that include urban and rural communities. Based on LOI responses, DOT may also select more than one Capacity Builder per Community of Practice. Capacity Builders with demonstrated technical expertise in specific areas that align with DOT strategic priorities may be tapped to provide targeted technical support to multiple communities of practice. If a Capacity Builder is tapped to provide targeted technical support to multiple communities of practice, DOT reserves the right to pair the Capacity Builder with other Capacity Builders. This pairing will take place at the time of award announcement. To enable these pairings, DOT may require some selected Capacity Builders to make subawards to other Capacity Builders.

Cooperative agreements will be managed through substantial involvement by DOT's staff (see Federal Award Administration Information in section F.1 of this NOFO). Selected TCP Capacity Builders should demonstrate compliance with civil rights obligations and nondiscrimination laws, including Titles VI of the Civil Rights Act of 1964, the Americans with Disabilities Act (ADA), and Section 504 of the Rehabilitation Act, and accompanying regulations. Recipients of Federal transportation funding will also be required to comply fully with regulations and guidance for the ADA, Title VI of the Civil Rights Act of 1964, Section 504 of the Rehabilitation Act of 1973, and all other civil rights requirements. The Department's Office of Civil Rights may work with awarded cooperative agreement recipients as appropriate to ensure full compliance with Federal civil rights requirements.

DOT will determine the amount of funds to be awarded but anticipates a range between $3,500,000 to $6,000,000 for each cooperative agreement. Multiple cooperative agreements are expected, with an aggregate total of approximately $21,000,000. Awards made be 100% federal share. Final decisions on amount of funding per award and number of cooperative agreements will be dependent upon applications received. DOT may elect to award funding through future NOFOs, if necessary.

Subsequent year funding and additional funding from DOT will depend upon priorities established by the Secretary of Transportation, future authorizations and appropriations, and the Thriving Communities' annual performance reviews.

There will be time between selection of applicants and execution of the cooperative agreement to finalize scopes of work to reflect recipient community selections. The period of performance covered by the award amount shall not exceed twenty-four (24) months from the date of execution in DOT's electronic grants management system unless at DOT's discretion, the period of performance is extended before expiration.

C. Eligibility Information

1. Eligible Applicants (Capacity Builders)

Those applying to provide technical assistance, planning and capacity building can apply individually or as part of a team of eligible applicants. DOT seeks Capacity Builders that have technical knowledge across a diverse set of issues and skills, including meaningful public involvement in transportation decision-making processes and project delivery; therefore, the lead applicant is strongly encouraged to partner with other eligible organizations to form a diverse Capacity Builder team. If applying as part of a team, the lead applicant must be clearly identified and submit the application on behalf of the team. The cooperative agreement will be between DOT and the lead organization, which is the primary recipient of DOT TCP funds. The recipient may make subawards to other team members, but the recipient is responsible for compliance with Federal requirements, including 2 CFR parts 200 and 1201.

Eligible applicants are non-profit organizations, state or local governments and their agencies (such as transit agencies or metropolitan planning organizations), Tribes, philanthropic entities, and other technical assistance providers with a demonstrated capacity to develop and provide technical assistance, planning, and capacity building. Priority is given to applicants that demonstrate experience working with state, local, or Tribal governments, United States territories, or other political subdivisions of state or local governments. See section D.2 of this NOFO for details on the information applicants must submit to support eligibility determinations.

2. Cost Sharing and Matching

No cost sharing or matching is required as a condition of eligibility under this competition. DOT will fund up to 100 percent of eligible project costs.

3. Eligible Project Costs

Eligible costs include those that the Capacity Builders undertake to directly assist in the development of technical assistance, planning, or capacity building for communities to carry out eligible projects to integrate transportation, community, and system preservation plans and practices for which the award has been granted.

Eligible costs also include those that Capacity Builders incur or subgrant to build community capacity, including staff and benefits plus other overhead costs such as rent, utilities, and office equipment, hiring of new staff and fellows, building IT systems for application processes and reporting, and website development for education and training.

4. Eligible Activity Costs Must Comply With the Cost Principles set Forth in With 2 CFR Subpart E (i.e., 2 CFR 200.403 and 200.405). DOT Reserves the Right To Make Cost Eligibility Determinations on a Case-By-Case Basis.

D. Application and Submission Information

Applications must include the materials listed in section D.2 of this NOFO to be considered for funding.

1. Address To Request Application Package

Applications will only be accepted electronically through www.grants.gov under Opportunity Number DOT-TCP-FY22-01. Potential applicants may also request paper copies of materials at:

Telephone: (202) 366-2414.

Mail: U.S. Department of Transportation, 1200 New Jersey Avenue SE, W12-412, Washington, DC 20590.

2. Content and Form of Application Submission

The table below describes the DOT and Federal grant assistance forms and other documents required for a complete application under this NOFO and may serve as a checklist for applicants in preparing their submissions. A separate application checklist can be found in Appendix A of this NOFO.

Program Design and Substance:
Executive Summary
Technical Assistance and Capacity Building Approach
Applicant Expertise, Staffing, and Project Management
Program Evaluation and Assessment
Budget Narrative and Cost Estimate
Schedule of Milestones and Deliverables
Forms and Supporting Documentation:
Application for Federal Assistance (SF-424)
Budget Information for Non-Construction Programs (SF-424A)
Assurances for Non-Construction Programs (SF-424B)
Certification Regarding Lobbying (CD-511)
Disclosure of Lobbying Activities (SF-LLL)
Organizational Documentation (if applicable, depending on your organization type)
Indirect Cost Rate (ICR) Documentation (if applicable)
Unique Identifier and System for Award |Management (SAM)

a. Executive Summary

The Executive Summary should be a clear, concise, and include a descriptive summary of the proposed approach to technical assistance and capacity building, including a clear identification of which cohort the applicant is applying to support, and a brief description of how the proposed approach will advance Thriving Communities Program goals. Applicants may propose to support multiple cohorts but will only be selected for one, so it is advisable to tailor your narrative and approach to a specific cohort. The executive summary should be no more than 500 words and, if selected for funding, may be used in a public announcement or on DOT's website.

b. Technical Assistance and Capacity Building Approach

In the Technical Assistance and Capacity Building Approach, applicants should provide a detailed description of the proposed program of technical assistance, planning, and capacity building activities that will be tailored to and meet the specific needs of disadvantaged communities that will receive TCP support, including areas for direct support and specific ways in which community partners will be utilized to provide or supplement technical assistance and capacity building. If selected, work plans and budgets will be finalized as part of the cooperative agreement negotiation process.

This section of the application should not exceed 10-single sided, 8.5x11-inch pages, with a minimum 12-point font and 1-inch margins.

Technical Approach

In the narrative describing the program of technical assistance, planning, and capacity building activities, applicants are expected to distinguish between the following—approaches to provide customized, deep-dive support to individual communities; strategies to build and sustain a Community of Practice; and the applicants' areas of expertise that may be tapped for targeted technical assistance. Applicants should distinguish between their proposed approach and activities to provide short-term technical assistance versus providing direct support or resources to build long-term technical and organizational capabilities. Applicants should describe how they will assist program participants identify and apply for funding opportunities, and effectively manage grants administratively and programmatically.

In developing individualized deep-dive technical assistance, applicants should identify the process they will utilize to co-design a scope of work with selected recipients and their community partners. This should include, at a minimum, an assessment of technical capacity including human and community-based, organizational, or institutional, financial, and technical assets and deficiencies relative to meeting needs of the community and goals of the TCP program.

Applicants should highlight their approach, expertise, and how they would propose to evaluate impact related to such practices as, not limited to:

• Equity practices and Civil Rights requirements to support community visioning and inclusive and meaningful engagement strategies, including use of arts, culture, technology, and culturally competent practices.

• Environmental planning and analysis practices including to support transportation decarbonization, climate resilience and adaptation.

• Land use and regulatory practices that improve alignment and efficiencies between transportation networks and service with housing and economic development patterns.

• Transportation practices to advance transformative community and data driven projects through state, metropolitan and Federal transportation and community development planning and project delivery processes.

• Coalition building and collaboration practices that build and sustain cross-sector partners and empower community stakeholders, especially those from disadvantaged communities.

Applicants should also demonstrate how they will provide technical assistance to help recipients transition projects through all stages of the transportation decision-making and project delivery process, including the planning, project development, securing funding, and delivery phases, as appropriate to implementation. If applicable, provide examples of helping organizations navigate and comply with federal regulatory and compliance requirements relative to transportation and environmental planning, grant making, and procurement. This may include examples of how members of the team have previously and successfully worked with state, local, Tribal governments, or United States territories on these types of efforts. Applicants may propose how they would provide deep dive support to additional communities, beyond the 10-15 selected by DOT, within their proposed budget or through leveraging other funding or associated technical assistance efforts that its team members may also be supporting.

To be considered for providing targeted technical assistance, applicants should identify any specific areas of expertise that members of the Capacity Builder team possess on DOT Strategic Plan and Equity Action Plan priorities such as Title VI and civil rights compliance; racial equity and environmental justice; workforce development, local and economic hiring preferences; small and disadvantaged business development and procurement; transportation safety and safe system approaches; meaningful public involvement and inclusive community engagement practices; technology innovation and deployment; and knowledge of requirements related to the National Environmental Policy Act and emerging climate resiliency practices.

Capacity Building Approach

Applicants must describe how they will build short- and long- term capacity for TCP recipients and their community partners, identifying specific services that build an effective Community of Practice. This should include a description of their approach to sub-granting resources to build upon and utilize existing local capacity. Capacity building should focus on ways to improve the ability of an organization to design and undertake the necessary technical, financial, business, data analyses; meet Federal oversight and project management requirements; undertake statewide and metropolitan long-range planning and programming activities; and implement other activities that broadly support project development and delivery. This includes developing long-term community capacity to sustain partnerships and engage non-governmental partners, leadership and workforce development, and program evaluation.

Capacity building approaches should include an element of responsiveness to the needs of individual communities and adaptability over the two-year period of performance. Applicants may propose different areas where they anticipate capacity needs to be the greatest, and strategies they envision deploying to meet these needs through individualized deep-dive support. They should also describe the process they will use to adapt capacity building approaches, as needed.

Applicants should identify specific goals for the Community of Practice and propose a set of activities to address entrenched systemic inequities and barriers; leadership and partnership development; and other needs to strengthen collaboration and facilitate longer-term impact within and across recipient communities. Capacity Builders can identify and resource one or more of the Community Partner organizations to serve as a local implementation partner to support and participate in this work.

c. Applicant Expertise, Staffing, and Project Management Plan

Applications must describe the expertise and capacity of the team or individual organization, that demonstrate the team's ability to perform all activities requested under this NOFO, including project management.

The Applicant Capacity, Staffing and Project Management section should not exceed 7 single-sided, 8.5x11-inch pages, with a minimum 12-point font and 1-inch margins. Resumes do not count against the page limit. Applicants should include the following:

Organization Description

A one-page organization or company profile should be provided for each member of the Capacity Building Team and may be publicly shared as part of the organization introductions. Profiles should include the company name, its role on the team, number of employees; location of office or its geographic scope; whether it is a certified disadvantaged business enterprise, 8(a), small disadvantaged, HUBZone, woman-owned or service-disabled veteran-owned small businesses ¹; a brief summary of the type of services it provides; firm capabilities including relevant experience in providing technical assistance, planning and capacity building to underserved populations and geographies, and involvement of team members that represent the types of communities and stakeholders to be served. Key staff members of each organization should be shown.

¹ Additional DOT guidance on small business contracting can be found at https://www.transportation.gov/sites/dot.gov/files/2021-03/508_OSDBU%20Contracting_03102021.pdf.

The applicant should demonstrate how individual team members represent the different areas of expertise needed to develop and implement a well-structured, feasible, and scalable technical assistance, planning and capacity building plan.

Teaming Arrangement

Applications should include a description of how team members will be overseen and managed. An organizational chart or decision flow-chart may assist in visualizing relationships between team members.

Applications should demonstrate the Capacity Building Team's ability to foster cross-sector collaboration and employ leadership development practices to support and sustain partnerships across a diverse set of organizations and stakeholders including underserved populations and communities.

Previous Project Experience

Preference will be given to applicants who can demonstrate technical knowledge across a diverse set of issues and skills relevant to the cohort they are proposing to support, particularly related to supporting disadvantaged communities and on equity-related issues such as civil rights compliance, equitable development, inclusive and meaningful community engagement including to persons with disabilities, limited English proficient individuals, and other target populations; community wealth building; and any previous experience in helping communities successfully deliver transportation projects, advance policies to integrated community and infrastructure development and/or secure federal funding for such projects.

DOT will prioritize applicants who possess and successfully demonstrate expertise in at least one of the following optional areas, with a preference for multiple areas of expertise specifically working with and empowering disadvantaged communities and equitable transportation approaches:

• Innovative financing and leveraged funding approaches that address the unique challenges of under-resourced, low-tax base and credit-challenged communities.

• Community wealth building and economic development practices including community ownership models, apprenticeship, and business entrepreneurial programs.

• Strategies to nurture small and disadvantaged business participation and development including capacity building initiatives and facilitating supportive services within disadvantaged business enterprise community marketplaces.

• Conducting a mobility needs analysis, racial equity, or health equity analysis to evaluate transportation plans and proposals.

• Incorporating sustainable practices across the lifecycle of projects to reduce greenhouse gas emissions and operations and maintenance costs across the lifecycle of a project.

• Strategies to measure and mitigate natural hazards including flooding or the urban heat island effect, such as siting trees and implementing other nature-based solutions.

Applicants should include a description and evidence of the team's knowledge of federal funding processes, statutes, and technical assistance programs and the transportation planning and project development processes relevant to the cohort being supported to demonstrate its ability to connects TCP communities to existing technical assistance resources available through DOT and other Federal agencies.

Applicants should also include a description and evidence of the team's experience with coordinating and managing peer learning networks, including to develop communication materials; design and facilitate online convenings; and support collaboration between technical assistance recipients, capacity builders, and Federal agency staff.

Staffing Plan

Applications must include a Staffing Plan listing all positions proposed to be charged to the project for each Capacity Builder partner organization, whether as Federal or non-Federal costs. The Staffing Plan must include the position titles, hourly rates, and percentage of time dedicated to the project. The sum of all salaries charged to the project must equal the amount on the “Personnel” budget line item on Form SF-424A. The Staffing Plan should provide a description of how the personnel will carry out the proposed project.

Proposals should identify key project staff to provide the identified technical assistance needs. The proposal should include a one-page resume for each key project staff member. This should include a short summary of the individual's relative areas of expertise; years of experience; employment and education history; and brief snapshot of related project history noting work with disadvantaged communities, comprehensive economic or community development, and/or capacity building. Replacement of key staff are subject to DOT approval. At least one key staff member must be identified per Capacity Builder partner organization.

Resumes should be compiled and uploaded together as one PDF file and may be shown as an appendix. Mid-level or junior staff may be shown without identification or resumes. Key staff are defined as project managers, subject matter experts, and individuals who have specialized knowledge key to delivery of technical assistance.

Given that additional technical assistance and capacity building needs may arise in response to the specific needs of selected communities receiving deep dive support, refinements can be made to the proposed staffing structure with DOT approval. The applicants are encouraged to include strategic hiring plan that may be utilized to supplement or hire contingent staff. that may work directly with recipients and their community partners to ensure continuity of services.

d. Program Evaluation and Assessment Plan

Applicants must include specific performance metrics under each of the specific work tasks describing how they will track, analyze, and report on the results and outcomes of the technical assistance, planning, and capacity building they are providing to individual communities and to the specific Community of Practice they are supporting. Performance metrics may be qualitative and/or quantitative and should be described in terms of well-defined outputs, such as number of communities assisted, number of successful grant or funding applications for projects supported through this program; short and long-term capacity increases; and to the extent practical to convey, community-defined impact metrics used to evaluate local equity outcomes of this program that demonstrate positive benefits for disadvantaged communities supported through TCP. DOT will require a final report from Capacity Builders summarizing the goals, impacts, process, and lessons learned from engagement with each recipient community and for the overall Community of Practice. Recipients of technical assistance may be contacted to assess their level of satisfaction with contractor performance.

DOT is interested in the opportunities for broader outreach and shared learning that can be supported through the dissemination of materials developed by Capacity Builders, and by the lessons learned through the technical assistance engagement to inform future program design and impact. This will include quarterly virtual meetings with representatives of the Capacity Builders to be organized and conducted by DOT; and potentially an annual in-person 1.5-day TCP convening that will include participation by Capacity Builders (estimate 4 people) and recipient communities including community partners (estimate 3 people per team). Capacity Builders should allocate a portion of their budget to support this involvement. For the purpose of budget estimation, assume meetings are held in Washington, DC at average-priced travel periods.

The Program Evaluation and Assessment section should not exceed 3 single-sided, 8.5x11-inch pages, with a minimum 12-point font and 1-inch margins.

e. Budget Narrative and Cost Estimate

Applications must include a Budget Narrative that describes the costs associated with each line item on Form SF-424A, distinguishing clearly between costs for direct support to recipients and their community partners and reimbursement of technical assistance services delivered on site by local partners. Applicants should include and clearly identify the costs that the Capacity Building Team undertakes to directly assist in the development of technical assistance, planning, or capacity building. Costs for subgrantees and direct costs should be presented separately.

At least 60% of the total project budget should be for activities that provide direct support to communities. This may include direct costs to provide sub-granting, purchase necessary software, and supplement staffing for TCP recipients and community partners, or to support other activities that enable their long-term capacity created to successfully apply and manage federal funding. DOT also encourages sub-granting or other activities that compensate local community partners who are serving as technical assistance, planning and capacity builders.

Applicants should provide a summary table and narrative that articulates the anticipated costs for the lead organization and team members. Specific information requested in the summary or narrative include:

• Labor categories and fully loaded hourly rates

• Expected total hours for each labor category

• Direct costs that may be charged to the project, including travel, operating capital outlays, tangible goods, software, and other costs described in the narrative

• Overhead, profit, or contingency costs, expressed as a percent. Indicate whether overhead costs are included in fully loaded hourly rates

• Dollar amount or percent of the budget devoted to pass-through spending that supports:

○ deep dive technical assistance to recipients

○ community partner organization who supplements capacity building support to the Community of Practice

○ any associated overhead reduction for pass-through labor or direct costs

DOT will reimburse labor and direct costs incurred by the Capacity Builders, including subcontractor. Capacity Builders should maintain a system for recording all project costs. Invoices may be transmitted to DOT monthly.

The Capacity Builder must notify DOT in writing when 50% of the project budget is expended. Further, work must stop, and DOT be notified in writing when 90% of the project budget is expended. Aggregate payment shall not exceed the cap shown in the cooperative agreement. Costs incurred over the cap shown in the cooperative agreement will not be paid.

The Budget Narrative and Cost Estimate may be submitted as an Excel, Microsoft Word, or PDF document. The Budget and Cost Estimate section should not exceed 2 single-sided, 8.5x11-inch pages, with a minimum 12-point font and 1-inch margins. Organization or company profiles do not count against the page limit and can be compiled and uploaded together as one PDF file and may be shown as an appendix.

f. Schedule of Milestones and Deliverables

Applications must include a proposed set of tasks, schedule detailing the expected start and end date of tasks, and major deliverables described in the proposed approach. Applications should incorporate preparation of the final report and presentation into the project timeline and period of performance. The proposed task organization and schedule will serve as a starting point for cooperative agreement negotiations with the selected teams.

The Schedule of Milestones and Deliverables section should not exceed 2 single-sided, 8.5x11-inch pages, with a minimum 12-point font and 1-inch margins.

g. Standard Forms and Supporting Documentation

All applicants must submit the following Standard Forms (SF), as applicable, as separate PDF documents and do not count toward the overall application page length:

• Application for Federal Assistance (SF-424)

• Budget Information for Non-Construction Programs (SF-424A)

• Assurances for Non-Construction Programs (SF-424B)

• Certification Regarding Lobbying (CD-511)

• Organizational Documentation (if applicable, depending on your organization type)

• Indirect Cost Rate (ICR) Documentation (if applicable)

All relevant forms must be signed electronically by the applicant's Authorized Organizational Representative (AOR); please see sections H of this NOFO for information on AOR requirements. The preferred electronic file format for attachments is Adobe portable document format (PDF); however, DOT will accept electronic files in Microsoft Word or Microsoft Excel formats. DOT will not accept paper, facsimile, or email transmissions of applications. All documentation and data submitted should be current and applicable as of the date submitted. Applicants may contact the appropriate contact listed in section G for technical assistance before submitting an application.

Organizational Documentation

Each applicant and co-applicant must provide documentation that supports each applicant's or co-applicant's organizational status as an eligible entity where applicable (section C.1 of this NOFO).

• States, Indian Tribes, cities or other political subdivisions of States, and institutions of higher education that are 100% publicly controlled are not required to submit organizational documentation.

• Nonprofit organizations must submit documentation that demonstrates their status as nonprofit organizations. This must include articles of incorporation, bylaws, certificate of good standing, and a copy of the most recent (not older than 18 months) IRS Form 990 (Return of Organization Exempt from Income Tax) (without attachments or schedules).

• Other entities, including institutions of higher education that are not 100% publicly controlled, must provide documentation that demonstrates their organization type.

Indirect Costs (If Applicable)

If indirect costs are included in the budget, the applicant must include documentation to support the indirect cost rate they are using (unless claiming the 10 percent de minimis indirect cost rate, discussed below). The applicant must submit a copy of its current, approved, and negotiated indirect cost rate agreement (NICRA). If the applicant does not have a current or pending NICRA, it may propose indirect costs in its budget; however, the applicant must prepare and submit an allocation plan and rate proposal for approval within ninety days from the award start date (unless claiming the 10 percent de minimis indirect cost rate, discussed below). See 2 CFR part 200, apps. III, IV, V, VI, VII for guidance. The allocation plan and the rate proposal shall be submitted to DOT. The applicant should include a statement in its Budget Narrative that it does not have a current or pending NICRA and will submit an allocation plan and rate proposal to DOT or the applicant's cognizant federal agency for approval.

In accordance with 2 CFR 200.414(f), an applicant that does not have a current negotiated (including provisional) rate, may elect to charge a de minimis rate of 10 percent of modified total direct costs (subject to the exceptions of § 200.414(f)). No documentation is required to justify the 10 percent de minimis indirect cost rate; however, an applicant electing to charge a de minimis rate of 10 percent must include a statement in its Budget Narrative that it does not have a current negotiated (including provisional) rate and is electing to charge the de minimis rate.

If the applicant is a state or local unit of government (or an Indian Tribe) that receives less than $35 million in direct federal funding per year it may submit any of the following:

• a Certificate of Indirect Costs from the Department of the Interior (DOI) or DOT;

• an acknowledgment received from the Department of Interior (on behalf of DOT) and a Certificate of Indirect Costs in the form prescribed at 2 CFR part 200, app. VII; or

• a NICRA.

3. Unique Entity Identifier and System for Award Management (SAM)

To enable the use of a universal identifier and to enhance the quality of information available to the public as required by the Federal Funding Accountability and Transparency Act of 2006, applicants are required to: (i) be registered in SAM before submitting an application; (ii) provide a valid unique entity identifier in the application; (iii) make certain certifications; and (iv) continue to maintain an active SAM registration with current information at all times during which they have an active federal award or an application or plan under consideration by a federal awarding agency. DOT may not make a federal award to an applicant until the applicant has complied with all applicable unique entity identifier and SAM requirements and, if an applicant has not fully complied with the requirements by the time the DOT is ready to make an award, DOT may determine that the applicant is not qualified to receive an award and use that determination as a basis for making an award to another applicant. Award recipients will be subject to reporting requirements as identified in OMB guidance published at 2 CFR parts 25 and 170.

4. Submission Dates and Times

The deadline for the receipt of an application is 11:59 p.m. Eastern Time on November 22, 2022. Applications received after this deadline will not be reviewed or considered. Applications will only be accepted electronically through Grants.gov. Applicants are advised to carefully read the submission information provided in section D of this NOFO. The date and time that an application will be deemed to be electronically received will be determined in accordance with the electronic submission instructions provided on Grants.gov.

Applications received after the application deadline will not be considered for funding. DOT strongly suggests that applicants start early, do not wait until near the application deadline before logging on and reviewing the instructions for submitting an application, and submit applications substantially before the deadline. Applicants should save and print written proof of an electronic submission.

In addition, please note the following:

• DOT will not accept any unsolicited changes, additions, revisions, or deletions to applications after the submission deadline.

• Throughout the review and selection process, DOT reserves the right to seek clarification from applicants whose applications are being reviewed and considered.

• Applicants may be asked to clarify objectives and work plans and modify budgets or other specifics as necessary to comply with federal requirements and provide supplemental information required by the agency before award.

• See section E of this NOFO for application review and selection information.

5. Funding Restrictions

For funding restrictions that may affect an applicant's ability to develop an application and budget consistent with program requirements, see section C of this notice. DOT will not reimburse costs incurred before the cooperative agreement has been signed by DOT and the lead applicant.

The maximum dollar amount of allocable indirect costs for which DOT will reimburse a recipient will be the lesser of the (i) line-item amount for the federal share of indirect costs contained in the DOT approved budget for the award, or (ii) federal share of the total allocable indirect costs of the award based on either (a) the indirect cost rate approved by DOT (or applicable cognizant federal agency), provided that the cost rate is current at the time the costs were incurred and provided that the rate is approved on or before the award end date, or (b) other acceptable documentation as indicated below.

6. Other Submission Requirements

The complete application must be submitted electronically via Grants.gov. To find this funding opportunity, search for [opportunity number] via the Funding Opportunity Number field. The most up-to-date instructions for application submission can be found at https://www.grants.gov/web/grants/applicants/applyfor-grants.html. In the event of system problems or the applicant experiences technical difficulties, contact grants.gov technical support via telephone at 1-800-518-4726 or email at support@grants.gov.

Early Registration and Application Submission

In order to submit an application via Grants.gov, applicants must register with SAM.gov and Grants.gov. Registration can take between three to five business days or as long as four weeks. To avoid delays, DOT strongly recommends that applicants start early and not wait until the approaching deadline date before logging in, registering, reviewing the application instructions, and applying.

AOR Requirement

Applicants must register as organizations, not as individuals. As part of the registration process, applicants will register at least one AOR for the organization. AORs registered at Grants.gov are the only officials with the authority to submit applications; please ensure that the organization's application is submitted by an AOR. Note that a given organization may designate multiple individuals as AORs for Grants.gov purposes. DOT will not accept late submissions caused by registration issues with Grants.gov, SAM.gov, or other systems.

Field Limitations and Special Characters

Please be advised of the following notice with respect to form field limitations and special characters: https://www.grants.gov/web/grants/applicants/submitting-utf8-special-characters.html.

Successful Submission Verification

It is your responsibility as an applicant to verify that your submission was timely received and validated successfully at grants.gov. Applicants should use the “Track My Application” function (https://www.grants.gov/web/grants/applicants/track-my-application.html). For a successful submission, the application must be received and validated by Grants.gov, and an agency tracking number must be assigned. If the date and time your application is validated and timestamped by Grants.gov is later than 11:59 p.m. Eastern Time on the application deadline set forth in this NOFO, your application is late. Once validation is complete, the status will change to “Validated” or “Rejected with Errors.” If the status is “Rejected with Errors,” your application has not been received successfully. For more detailed information about why an application may be rejected, please consult with resources such as “Encountering Error Messages” (https://www.grants.gov/web/grants/applicants/encounteringerror-messages.html) and “Frequently Asked Questions by Applicants” (https://www.grants.gov/web/grants/applicants/applicant-faqs.html).

DOT encourages applicants to submit early, even if draft, and then resubmit the final application. Applicants should save and print both the confirmation screen provided on the Grants.gov website after the applicant has submitted a final application and the confirmation email when the application has been successfully received and validated in the system. If an applicant receives an email from Grants.gov indicating that the application was received and subsequently validated but does not receive an email from Grants.gov indicating that DOT has retrieved the application package within 72 hours of that email, the applicant may contact the email address listed in section G of this announcement to inquire if DOT is in receipt of the applicant's submission.

Grants.gov System Issues

If you experience a systems issue (i.e., a technical problem or glitch with the website) that you believe threatens your ability to complete a submission in a timely manner, please (i) print any error message received; (ii) contact the Grants.gov Support Center at (800) 518-4726 for assistance; and (iii) contact DOT using the contact information in section G of this NOFO. Ensure that you obtain a case number regarding your communications with Grants.gov. Please note that problems with an applicant's computer system or equipment are not considered systems issues. Similarly, an applicant's failure to, e.g., (i) complete the required registration, (ii) ensure that a registered AOR submits the application, or (iii) notice receipt of an email message from Grants.gov are not considered systems issues. A Grants.gov systems issue is an issue occurring in connection with the operations of Grants.gov itself, such as the temporary loss of service by due to unexpected volume of traffic or failure of information technology systems, both of which are highly unlikely. In the event of a confirmed systems issue, DOT reserves the right to accept an application in an alternate format.

Applicants should access the following link for assistance in navigating Grants.gov and for a list of useful resources: https://www.grants.gov/web/grants/support.html. The following link lists “Frequently Asked Questions by Applicants”: https://www.grants.gov/web/grants/applicants/applicant-faqs.html. If you do not find an answer to your question there, contact Grants.gov by email at support@grants.gov or telephone at (800) 518-4726. The Grants.gov Contact Center is open 24 hours a day, seven days a week, except on federal holidays.

DOT, in its sole discretion, may pre-approve in writing submission via an alternate method (e.g., email) due to a systems issue at Grants.gov only insofar as any such systems issue is beyond the control of the applicant. However, any submission via this alternate method must be received before the deadline. Late applications will not be accepted for any reason, including but not limited to late submissions caused by issues with Grants.gov, SAM, or AOR registrations. In situations described in this subsection, applications must have email or facsimile receipt timestamps no later than the application deadline or must be postmarked or the equivalent on or before the application deadline. An application that is not timestamped or postmarked, as applicable, by the application deadline will not be reviewed.

E. Application Review Information

DOT will review applications in accordance with the requirements of this NOFO. DOT will consider whether the application is clear, concise, and well-organized. Throughout the review and selection process, DOT, at its sole discretion, may seek clarification, including but not limited to written clarifications and corrected or missing documents, from applicants whose applications are being reviewed and considered and require that applicants provide such clarifications or corrections to continue to be considered for an award under this NOFO. DOT will provide applicants a reasonable amount of time to provide any additional documentation. An applicant's failure to provide complete and accurate supporting documentation in a timely manner when requested by DOT may result in the removal of that application from consideration. DOT may ask applicants to clarify application materials, objectives, and work plans, or modify budgets or other specifics as necessary to comply with federal requirements.

1. Evaluation Criteria

The following evaluation criteria apply to all applications. Please read each criterion carefully:

• Proven Success

• Quality Project Management

• Alignment with DOT Priorities

• Centering Community

• Flexibility and Innovation

• Impact Size and Longevity

Cost sharing will not be considered in the evaluation except as demonstration of leveraging other funding or resources that expand the impact size and longevity.

Proven Success

Proposals should demonstrate:

• Extensive expertise in providing technical assistance, planning and capacity building to and/or with government organizations to support the needs of underserved populations and geographies.

• Demonstrated ability to build and sustain a Community of Practice to generate shared learning and relationship building across diverse types of government and non-government partners, including equity partners, and a diversity of place types.

• Ability to carry out the proposed scope of work based on staff experience and professional accomplishments.

• Demonstrated ability to assist lead applicants in their efforts to successfully comply with Title VI of the Civil Rights Act of 1964, the National Environmental Policy Act of 1969, and the Americans with Disabilities Act, and other federal regulations.

• Employment of qualified personnel that, as a group, demonstrate project management expertise, as well as demonstrated success in all aspects of the scope of work including commitments to equity, diversity, and inclusion.

Quality Project Management

Does the proposal include:

• Feasible and reasonable budget that addresses all program and Federal accountability concerns and demonstration of a financial plan and necessary accounting systems in place to meet federal 2 CFR part 200 requirements.

• Clearly identified tasks and at least 60% of budget allocated to provide direct support to recipients and community partners to build and utilize local capacity.

• Clearly defined timeline including targets, metrics, milestones, objectives, goals, and deliverables.

• Clear involvement of disadvantaged business enterprises, small businesses or minority owned businesses, and/or community-based organizations in proposed deliverables.

• Realistic performance targets and demonstrated method to measure progress.

• Management plan describing methods for supporting the project goals and managing partner organizations and project staff, including plan to address challenges and risks and proposed mitigation strategies.

Alignment With DOT Priorities

How will the proposed approach:

• Demonstrates multiple areas of expertise identified in section D.2(c) including specifically working with and empowering disadvantaged communities and with transportation approaches that align with DOT strategic priorities and Equity Action Plan commitments.

• Enable development of a national pipeline of transformative projects and comprehensive community development that deliver equity, environmental, safety, mobility, housing, and economic benefits.

• Infuse an equity lens into the design and delivery of technical assistance, planning, and capacity building in a transportation context.

• Improve basic infrastructure conditions and elevate the adoption of transportation decarbonization and climate resilience strategies to benefit disadvantaged communities.

• Adopt equity screening and meaningful public involvement practices to advance transformative community- and data-driven projects through state and metropolitan Transportation Improvement Programs (STIPs and TIPs).

• Support workforce development, hiring and labor practices benefitting local economically disadvantaged communities.

Centering Community

How will the proposed approach:

• Develop a realistic and community-driven assessment of need and corresponding scope of work for each assigned recipient.

• Deploy equity practices to support community visioning and inclusive engagement strategies, including use of arts, culture, technology, and culturally competent practices.

• Demonstrate success in building and sustaining partnership networks for local and regional transportation, economic and community development, housing, public health and/or environmental entities and stakeholders.

• Demonstrate an approach to working with DOT and other relevant federal agencies, including identified regional staff, in providing support to communities and leveraging federal opportunities.

Flexibility and Innovation

How will the proposed approach:

• Increase the ability of communities to deploy innovative technologies and other strategies that reduce greenhouse gas emissions and improve safety, equity, and resilience outcomes in disadvantaged communities.

• Increase or supplement the ability of communities to deploy quantitative skills, analytics, and data visualization to support evidence-based planning and decision-making.

• Include innovative practices to co-design evaluation and performance metrics to ensure program goals are advanced along with along the goals of individual communities.

• Be flexible in modifying or evolving technical assistance provisions as community needs change.

Impact Size and Longevity

How will the proposed approach:

• Maximize the scale of impact by providing comprehensive technical assistance to as many communities as reasonably possible.

• Maximize impact by leveraging additional funding and other resources (whether public, philanthropic, or other private resources).

• Demonstrate success in efficiently taking existing practices to scale; and in aggregating place-based work into key findings, noteworthy practices, and guidance to inform future DOT policy, technical assistance, planning and capacity building efforts.

• Ensure longevity of technical assistance impact by ensuring the long-term transfer of knowledge through documentation and archiving.

2. Review and Selection Process

a. Review for Eligibility and Completeness

For each application, DOT staff will assess whether the applicant is eligible and submitted all the information requested for a complete application. Applications that may not have all the necessary components will be referred to an Evaluation Management Oversight Team, which will contact the applicant if it is determined they are an eligible applicant and request the missing information with a response time of 5 business days. Applicants that do not supply required information in this timeframe will be disqualified. Applications received from ineligible entities will not be considered for funding. Applicants who are determined to be ineligible will be notified in writing, and all determinations will be documented.

b. Evaluation Criteria Review

First-level Review Teams, comprised of staff from DOT, inter-agency Federal staff, and contractor staff, will evaluate all eligible and complete applications received by the deadline for an Evaluation Review against the evaluation criteria in section E.1 of this NOFO.

Ratings will be determined by each reviewer on an individual basis, and a compilation of ratings will be produced. The First-level Review Team will conduct a panel discussion, revise scores as appropriate, and prepare an overall project rating based on majority opinion of the review team.

The First-level Review Team will consider whether the application narrative is responsive to the selection criterion focus areas, which will result in a rating of `High,' `Medium,' `Low,' or `Non-Responsive.'

Rating scale | High | Medium | Low | Non-responsive
Description | The application is substantively and comprehensively responsive to the criterion. It makes a strong case about advancing the program goals as described in the criterion descriptions | The application is moderately responsive to the criterion. It makes a moderate case about advancing the program goals as described in the criterion descriptions | The application is minimally responsive to the criterion. It makes a weak case about advancing the program goals as described in the criterion descriptions | The narrative indicates the proposal is counter to the criterion or does not contain sufficient information. It does not advance or may negatively impact criterion goals.

Based on the criteria ratings, an overall application merit rating of `Highly Recommended,' `Recommended,' or `Not Recommended' will be assigned by the First-level review team using the following methodology. The ratings on the individual merit criteria translate to the following overall application rating for merit criteria:

Overall merit rating | Individual criteria ratings
Highly Recommended | • At least four `High' ratings, • Zero “Low ratings,” and • Zero `Non-Responsive' ratings.
Recommended | • At least two `High' ratings, • No more than one `Low rating,' and • Zero `Non-Responsive' ratings.
Not Recommended | • Fewer than two `High' ratings, • Two or more `Low' ratings, or • One or more `Non-Responsive' ratings.

c. Leadership Selection Process

Applications that receive an overall application rating of Highly Recommended will be advanced to a Senior Review Team (SRT), which will include senior DOT and HUD leadership, to recommend applicants to the Under Secretary of Transportation for Policy (Under Secretary) for final selection. Final selection will be made with consideration to:

• Geographic, team member and organizational diversity

• Ability to meet anticipated technical assistance needs of communities within the Community of Practice it will be assigned to support

• Potential to positively impact disadvantaged communities

• Demonstrated level and diversity of expertise

• Demonstrated experience working with state, local, or Tribal governments, United States territories, metropolitan planning organizations, transit agencies, or other political subdivisions of state or local governments

The SRT at its sole discretion may elect to review and select for cooperative agreements proposals rated as Recommended if the proposal fulfills technical assistance needs that would not otherwise be met by applications rated as Highly Recommended.

d. Under Secretary of Transportation for Policy Selection Phase

The SRT will present a list of applications for recommended consideration to the Under Secretary for final selection. The SRT may advise the Under Secretary on any application on the list, including options for reduced awards. The Under Secretary will make final selections based on applications that best address program requirements and are most deserving of funding and may consult the Secretary of Transportation on those selections.

3. Additional Information

Prior to award, each selected applicant will be subject to a risk assessment as required by 2 CFR 200.206. DOT must review and consider any information about the applicant that is in the Federal Awardee Performance and Integrity Information System (FAPIIS), the designated integrity and performance system accessible through SAM. An applicant may review information in FAPIIS and comment on any information about itself that a Federal awarding agency previously entered. DOT will consider comments by the applicant, in addition to the other information in FAPIIS, in making a judgment about the applicant's integrity, business ethics, and record of performance under Federal awards when completing the review of risk posed by applicants.

F. Federal Award Administration

1. Federal Award Notice

This NOFO will remain open for 45 days from date of publication. Following the evaluation process, DOT will notify successful applicants of their selection for funding. DOT will also notify other applicants, whose applications were received by the deadline, but have not been chosen for award. The DOT will offer a written or telephonic debrief to provide an explanation of, and guidance regarding, the reasons why the application was not approved.

Final Award. After DOT has made selections, DOT will finalize specific terms of the cooperative agreement and budget in consultation with the selected lead applicant. If DOT and the selected applicant do not finalize the terms and conditions of the cooperative agreement in a timely manner, or the selected applicant fails to provide requested information, an award will not be made to that applicant. In this case, DOT may select another eligible applicant.

DOT will reimburse labor and direct costs incurred by the Capacity Builders, including subcontractors. Capacity Builders should maintain a system for recording all project costs. Invoices may be transmitted to DOT monthly. Aggregate payment will not exceed the cap shown in the cooperative agreement.

Adjustments to Funding. To ensure the fair distribution of funds and enable the purposes or requirements of a specific program to be met, DOT reserves the right to fund less than the amount requested in an application.

DOT Involvement. As the Federal awarding agency, DOT will maintain substantial involvement and oversight throughout the two-year period of performance of the executed cooperative agreements. This includes, but may not be limited to:

• Assigning communities selected to receive support through the TCP with specific Capacity Builders and finalizing work plans for cohort specific Communities of Practice

• Review of deliverables including individualized community deep dive work plans and technical assistance assessment

• Collecting and reviewing quarterly performance reports and final reports

• Convening regular meetings or capacity builder calls to review project activities, schedule, and progress toward the scope of work

• Identifying relevant federal technical assistance programs to be aligned with TCP efforts in specific communities and assigning federal agency staff to serve as liaisons with capacity builders, technical assistance recipients and their community partners.

• Reviewing and approving changes in key personnel or scope changes

• Oversight of ongoing compliance with applicable federal regulations

• Budget oversight, including collecting and reviewing and reimbursing monthly invoices for incurred costs and receiving notification when budgets are 50% and 90% expended.

• Conducting quarterly meetings with Capacity Builders and involvement with an annual TCP convening with Capacity Builders and community partners

2. Administrative and National Policy Requirements

Administrative Budget

DOT requires that a selected applicant participates in negotiations to determine an administrative budget. The administrative budget must clearly identify the labor, associated indirect costs, travel, and material and supply costs associated with your management of the award. The administrative budget must track the different sources of funding and associate administrative costs to each source. Should DOT not be able to successfully conclude negotiations with a selected applicant within a period determined by DOT, an award will not be made.

Performance under the grant program will be governed by and in compliance with the following requirements as applicable to the type of organization of the recipient and any applicable sub-recipients:

All awards will be administered pursuant to the Uniform Administrative Requirements, Cost Principles and Audit Requirements for Federal Awards found in 2 CFR part 200, as adopted by DOT at 2 CFR part 1201.

Other terms and conditions as well as performance requirements will be addressed in further communications with the recipient. The full terms and conditions may vary and are subject to discussions and negotiations.

In connection with any program or activity conducted with or benefiting from funds awarded under this notice, recipients of funds must comply with all applicable requirements of Federal law, including, without limitation, the Constitution of the United States statutory, regulatory, and public policy requirements, including without limitation, those protecting free speech, religious liberty, public welfare, the environment, and prohibiting discrimination; the conditions of performance, non-discrimination requirements, and other assurances made applicable to the award of funds in accordance with regulations of the Department of Transportation; and applicable Federal financial assistance and contracting principles promulgated by the Office of Management and Budget. In complying with these requirements, recipients must ensure that no concession agreements are denied, or other contracting decisions made on the basis of speech or other activities protected by the First Amendment. If the Bureau determines that a recipient has failed to comply with applicable Federal requirements, the Bureau may terminate the award of funds and disallow previously incurred costs, requiring the recipient to reimburse any expended award funds.

Additionally, Executive Order 13858 directs the Executive Branch Departments and agencies to maximize the use of goods, products, and materials produced in the United States through the terms and conditions of Federal financial assistance awards. If selected for an award, grant recipients must be prepared to demonstrate how they will maximize the use of domestic goods, products, and materials, as applicable.

Administration Priorities

It is the policy of DOT to reflect Administration priorities and incorporate criteria for selection considerations related to climate change and sustainability, racial equity including environmental justice, Title VI and other federal Civil Rights laws, and barriers to opportunity, labor, and workforce in its grant programs, to the extent possible and consistent with law. Capacity Builders selected for participation in the TCP are expected to demonstrate in their applications how they will advance all of these priorities via the planning, capacity building, and technical assistance they provide to recipients and community partners during the two-year period of performance of the cooperative agreement. More detail on application requirements is available in section D.2 of this NOFO. DOT will evaluate applicants on the extent to which they successfully describe how they will advance these criteria, as described in section E.1 of this NOFO.

Performance and Program Evaluation

Each cooperative agreement lead organization must submit quarterly progress reports to monitor progress and ensure accountability and financial transparency in the grant program. Each contractor must collect and report to the Bureau performance information on the technical assistance and advisory services being provided. The specific performance information and reporting period will be determined on an individual basis and communicated at the kickoff meeting of the grant. It is anticipated that the Bureau and the contractor will hold regular, informal meetings or calls to review project activities, schedule, and progress toward the scope of work.

Remedies for Noncompliance

Pursuant to 2 CFR 200.340, a Federal award may be terminated in whole or in part if the grantee fails to comply with the terms and conditions of the award or if DOT determines the award no longer effectuates the program goals or agency priorities.

3. Reporting

If the total value of a selected applicant's currently active grants, cooperative agreements, and procurement contracts from all Federal awarding agencies exceeds $10,000,000 for any period of time during the period of performance of this Federal award, then the applicant during that period of time must maintain the currency of information reported to the SAM that is made available in the designated integrity and performance system (currently FAPIIS) about civil, criminal, or administrative proceedings described in paragraph 2 of this award term and condition. This is a statutory requirement under section 872 of Public Law 110-417, as amended (41 U.S.C. 2313). As required by section 3010 of Public Law 111-212, all information posted in the designated integrity and performance system on or after April 15, 2011, except past performance review required for Federal procurement contracts, will be publicly available.

G. Federal Awarding Agency Contacts

If you have questions or need additional information about this NOFO, you may contact ThrivingCommunities@dot.gov. Prospective applicants may visit the following website for more information: https://transportation.gov/thriving-communities.

H. Other Supporting Information

1. Definitions

Areas of Persistent Poverty: An area of persistent poverty is a county with 20 percent or more of the population living in poverty over the 30 years preceding the date of enactment of the Infrastructure Investment and Jobs Act (November 15, 2021) as measured by the 1990 and 2000 decennial census and the most recent Small Area Income and Poverty Estimates. Alternatively, data to support eligibility may also be from any census tract with a poverty rate of at least 20 percent as measured by the 2013-2017, five-year data series available from the American Community Survey of the Census Bureau.

Authorized Organization Representative (AOR) is the person authorized to submit applications on behalf of the organization via Grants.gov. The AOR is authorized by the E-Biz point of contact in the System for Award Management. The AOR is listed on the SF-424.

Capacity Building: Activities designed to improve the ability of an organization to design and implement the necessary technical, financial, business, data analysis, and management skills of grantees to access Federal funding, meet Federal requirements, undertake statewide and metropolitan long-range planning and programming activities, and implement other activities that broadly support project development and delivery. This includes developing long-term community capacity to sustain partnerships and engage non-governmental partners, leadership and workforce development, and program evaluation.

Community-based organizations: The term “community-based organization” means a public or private nonprofit organization of demonstrated effectiveness that—(A) is representative of a community or significant segments of a community; and (B) provides educational or related services to individuals in the community.

Disadvantaged Community: (1) Any Tribal land or any territory or possession of the United States and (2) those census tracts (a) experiencing disproportionate effects (as defined by Executive Order 12898); (b) that contain areas of persistent poverty as defined in 49 U.S.C. 6702(a)(1); (c) that are historically disadvantaged as defined by DOT's mapping tool for Historically Disadvantaged Communities; or (d) other federally designated community development zones.

Equitable development: Equitable development is a development approach for meeting the needs of all communities, including underserved communities through policies and programs that reduce disparities while fostering livable places that are healthy and vibrant for all.

Grants.gov: The website serving as the Federal government's central portal for searching and applying for Federal financial assistance throughout the Federal government. Registration on Grants.gov is required for submission of applications to prospective agencies unless otherwise specified in this NOFO.

Historically Disadvantaged Community: Any Tribal land or any territory or possession of the United States, or certain census tracts in the top 50% (75% for resilience) in at least four of the following categories—transportation access, health, environmental, economic, resilience, and equity disadvantage. For more information see https://www.transportation.gov/grants/dot-navigator/federal-tools-determine-disadvantaged-community-status.

Location-efficient housing: Housing that benefits from being located in communities near work, schools, services, and amenities and has accessibility to public transportation networks.

Meaningful Public Involvement: A process that proactively seeks full representation from the community, considers public comments and feedback, and incorporates that feedback into a project, program, or plan when possible. The impact of community contributions encourages early and continuous public involvement and brings diverse viewpoints and values into the decision-making process. This process enables the community and agencies to make better-informed decisions through collaborative efforts.

Place-making: A multi-faceted and collaborative approach to the planning, design, and management of the public realm to re-activate or co-create active, accessible and inviting public spaces that promote the well-being of people.

Planning: Efforts that support inclusive public participation and community engagement in developing and implementing a range of activities to identify, assess, and evaluate community needs, including but not limited to environmental reviews, data and mapping visualization, market and mobility studies, health and safety impacts, and climate vulnerability assessments. Planning assistance may involve developing or designing for a program or project that aligns with the goals of the DOT Strategic Plan.

Rural: For the purposes of this NOFO, rural jurisdictions are those outside of Urbanized Areas with populations below 50,000. See U.S. Census Bureau resources on Rural America and Maps of Urbanized Areas. A list of Urban Areas for the 2010 Census is available in the Federal Register.

Statewide Transportation Improvement Program (STIP): means a statewide prioritized listing/program of transportation projects covering a period of 4 years that is consistent with the long-range statewide transportation plan, metropolitan transportation plan, and TIPs, and required for projects to be eligible for funding under title 23 U.S.C. and title 49 U.S.C. chapter 53.

Technical Assistance: Programs, processes, and resources that provide targeted support, knowledge or expertise to a community, region, organization, or other beneficiary to help them access and utilize Federal funding to develop, analyze, design, and deliver transportation plans and projects.

Transportation Improvement Program (TIP): means a prioritized listing/program of transportation projects covering a period of 4 years that is developed and formally adopted by an MPO as part of the metropolitan transportation planning process, consistent with the metropolitan transportation plan, and required for projects to be eligible for funding under title 23 U.S.C. and title 49 U.S.C. chapter 53.

Issued in Washington, DC, on October 6, 2022.
Christopher Coes,
Assistant Secretary for Transportation Policy, Department of Transportation.

Appendix A. Full Application Checklist

Before you submit your application to DOT, please ensure that the following elements are included in your submission.

☐ | Requirement | Location in NOFO
☐ | Executive Summary (should be 500 words or less) | Section D.2.a.
☐ | Technical Assistance and Capacity Building Approach (should not be more than 10-single sided, 8.5 x 11-inch pages, with a minimum 12-point font and 1-inch margins) | Section D.2.b.
☐ | Applicant Expertise, Staffing, and Project Management Plan (should not be more than 7 single-sided, 8.5 x 11-inch pages, with a minimum 12-point font and 1-inch margins. Resumes do not count against the page limit) | Section D.2.c.
☐ | Program Evaluation and Assessment Plan (should not be more than 3 single-sided, 8.5 x 11-inch pages, with a minimum 12-point font and 1-inch margins) | Section D.2.d.
☐ | Budget Narrative and Cost Estimate (Excel, Microsoft Word, or PDF document. The Budget and Cost Estimate section should not exceed 2 single-sided, 8.5 x 11-inch pages, with a minimum 12-point font and 1-inch margins. Organization or company profiles do not count against the page limit and can be compiled and uploaded together as one PDF file and may be shown as an appendix) | Section D.2.e.
☐ | Schedule of Milestones and Deliverables (should not be more than 2 single-sided, 8.5 x 11-inch pages, with a minimum 12-point font and 1-inch margins) | Section D.2.f.
☐ | All required forms (SF-424, SF-424A, SF-424B, CD-511, Organizational Documentation, ICR Documentation; submitted as separate PDF attachments to application) | Section D.2.g.

[FR Doc. 2022-22682 Filed 10-18-22; 8:45 am]

BILLING CODE 4910-9P-P